DEPARTMENT OF HEALTH AND HUMAN SERVICES

Health Resources and Services Administration

Health Information Technology Implementation

AGENCY: Health Resources and Services Administration (HRSA), Department of Health and Human Services (HHS).

ACTION: Notice of Noncompetitive Replacement of the Award to Southwest Virginia Community Health Systems, Virginia.

SUMMARY: HRSA will be transferring the American Recovery and Reinvestment Act (ARRA) (section 330 of the Public Health Service Act) Health Information Technology Implementation for Health Center Controlled Networks (HCCN) funds originally awarded to Southwest Virginia Community Health Systems (SVCHS), to support the implementation of a HCCN in the state of Virginia to enhance the quality and efficiency of primary and preventive care as a safety net through the effective use of Health Information Technology (HIT).

SUPPLEMENTARY INFORMATION: Former Grantee of Record: Southwest Virginia Community Health Systems (SVCHS).

Original Period of Grant Support: June 1, 2010, to May 31, 2012.

Replacement Awardee: Harrisonburg Community Health Center (HCHC).

Amount of Replacement Award: $951,240.

Period of Replacement Award: The period of support for the replacement award is July 1, 2012, to March 31, 2013.

Authority: Section 330 of the Public Health Service Act, 42 U.S.C. 245b.

CFDA Number: 93.703.

Justification for the Exception to Competition

The former grantee, SVCHS, relinquished the grant due to financial and organizational challenges. In the effort to preserve the opportunity to advance information technology resources of Virginia's medically underserved communities, HCHC has demonstrated capacity to fulfill the expectations of the original grant award and plans to work closely with the Community Care Network of Virginia (CCNV), to complete the grant project and to plan for a smooth transition of the grant. HCHC has been a HRSA funded health center since 2008 and is a well-established organization with sound fiscal and grants management operations. The transfer of these funds will ensure full implementation of the grant, which will enhance the state of Virginia's ability to improve the quality and efficiency of primary and preventive care as a safety net through the effective use of health information technology.

In order to ensure a timely implementation of an HCCN in the state of Virginia as originally awarded, this replacement award will not be competed.

FOR FURTHER INFORMATION CONTACT: Ms. Suma Nair via phone at (301) 443-7587, or via email at SNair1@hrsa.gov.

Dated: August 30, 2012.
Mary K. Wakefield,
Administrator.

[FR Doc. 2012-22009 Filed 9-6-12; 8:45 am]

BILLING CODE 4165-15-P